DEPARTMENT OF COMMERCE

Patent and Trademark Office

Patent Public Advisory Strategic Planning Survey

ACTION: Proposed collection; comment request.

SUMMARY: The Patent and Trademark Office, Patent Public Advisory Committee, invites the general public and other Federal agencies to take this opportunity to comment on this new information collection, as required by the Paperwork Reduction Act of 1995, Public Law 104-13 (44 U.S.C. 3506(c)(2)(A)).

DATES: Written comments must be submitted on or before July 23, 2007.

ADDRESSES: You may submit comments by any of the following methods:

• E-mail: Susan.Fawcett@uspto.gov. Include “0651-00xx PPAC Strategic Planning Survey” in the subject line of the message.

• Fax: 571-273-0112, marked to the attention of Susan K. Fawcett.

• Mail: Susan K. Fawcett, Records Officer, Office of the Chief Information Officer, Customer Information Services Group, Public Information Services Division, U.S. Patent and Trademark Office, P.O. Box 1450, Alexandria, VA 22313-1450.

• Federal e-Rulemaking Portal: http://www.regulations.gov.

FOR FURTHER INFORMATION CONTACT: Requests for additional information should be directed to the attention of 0651-00xx Patent Public Advisory Strategic Planning Survey c/o Andrew I. Faile, U.S. Patent and Trademark Office, P.O. Box 1450, Alexandria, VA 22313-1450; by facsimile at 571-273-6950, or by e-mail at Andrew.faile@uspto.gov.

SUPPLEMENTARY INFORMATION:

I. Abstract

The Patent Public Advisory Committee (PPAC) was established under 35 U.S.C. 5 as a nine member committee appointed by the Secretary of Commerce and serving at the pleasure of the Secretary of Commerce, with the duty to review the policies, goals, performance, budget, and user fees of the United States Patent and Trademark Office with respect to patents. In order to obtain data for a review of the policies, goals, and performance, the PPAC will conduct a survey, gather and analyze issues pertaining to potential problems and improvements to the U.S. Patent systems. Through this survey the PPAC will assist the USPTO in meeting its strategic goals, including efforts to optimize the patent process, in a clearly and concisely articulated and documented format.

The outreach survey project will be designed to query from a representative diversity of business and industry sectors, as well as academia and others involved in developing innovation from conception to commercialization.

The PPAC intends to use the data to measure how well the agency is meeting established programmatic expectations, to identify any disjoints between industry expectations and USPTO performance, and to develop improvement strategies that are inline with the agency strategic plan.

To obtain data, the PPAC proposes to use data gathering mechanisms to include but not be limited to: Focus groups, online surveys and one-on-one interviews. Focus groups will include individuals representing a cross section of the external Intellectual Property community and analysis of survey results will obtain both quantitative and qualitative responses.

This is a voluntary survey. The collected data will not be linked to the respondent and contact information that is used for sampling purposes will be maintained in a separate file from the quantitative data. Respondents are not required to provide any identifying information such as their name, address, or Social Security Number. In order to access and complete the online survey, respondents will need to use the username and password provided by the USPTO.

II. Method of Collection

In person, by mail, and/or electronically over the Internet.

III. Data

OMB Number: 0651-00xx.

Form Number(s): N/A.

Type of Review: New information collection.

Affected Public: Individuals or households; business or other for-profit; not-for-profit institutions; Federal Government; and state, local, or tribal Government.

Estimated Number of Respondents: 2,665 responses per year. It is estimated that the PPAC will conduct 6 focus groups of 20 respondents, 6 virtual focus groups of 20 attendees, 4 online surveys of up to 600 participants, and up to 25 one-on-one interviews.

The respondent group will include industry leadership throughout the United States. Due to the nature of the survey, which is being conducted as an outreach support project, the respondent group is expected to be higher than a random sampling survey audience. The PPAC expects to conduct these surveys once. The PPAC estimates that 70% of online surveys will be completed, 60% of all focus group invitees will attend, 60% of online surveys will be submitted, and 50% of the one-on-one interviews will be attended.

Estimated Time per Response: The USPTO estimates that it will take approximately 10 minutes (0.17 hours) to complete the online version of this survey. This includes the time to gather the necessary information, complete the request, and submit it to the USPTO. The expectation is that it will take approximately 30 minutes (0.5 hours) to complete a focus group session; and 20 minutes (0.33 hours) to complete a one-on-one interview.

Estimated Total Annual Respondent Burden Hours: 536 hours.

Estimated Total Annual Respondent Cost Burden: $162,944. The USPTO believes that a variety of professionals and industry leaders will be responding to these surveys, and as such the basis used for cost burden is that of the professional hourly rate of $304 for associate attorneys in private firms.

Item | Estimated time for response (in minutes) | Estimated annual responses | Estimated annual burden hours
PPAC Focus Group Session | 30 | 120 | 60
PPAC Virtual Focus Groups | 30 | 120 | 60
PPAC Online Strategic Planning Survey | 10 | 2,400 | 408
PPAC One-On-One Interview Survey | 20 | 25 | 8
Total |  | 2,665 | 536

Estimated Total Annual Non-hour Respondent Cost Burden: $0. There are no capital start-up, maintenance, operation, or recordkeeping costs, nor are there any filing fees associated with this information collection.

IV. Request for Comments

Comments are invited on: (a) Whether the proposed collection of information is necessary for the proper planning of strategic initiatives, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they also will become a matter of public record.

Dated: May 18, 2007.
Susan K. Fawcett,
Records Officer, U.S. Patent and Trademark Office, Office of the Chief Information Officer, Customer Information Services Group, Public Information Services Division.

[FR Doc. E7-10042 Filed 5-23-07; 8:45 am]

BILLING CODE 3510-16-P